DEPARTMENT OF DEFENSE

Office of the Secretary

Revised Non-Foreign Overseas Per Diem Rates

AGENCY: Defense Human Resources Activity, Department of Defense (DoD).

ACTION: Notice of revised per diem rates in non-foreign areas outside the Continental U.S.

SUMMARY: Defense Human Resources Activity publishes this Civilian Personnel Per Diem Bulletin Number 316. Bulletin Number 316 lists current per diem rates prescribed for reimbursement of subsistence expenses while on official Government travel to Alaska, Hawaii, the Commonwealth of Puerto Rico, and the possessions of the United States. The Fiscal Year (FY) 2021 lodging rate review resulted in lodging rate changes in certain locations.

DATES: The updated rates take effect April 1, 2021.

FOR FURTHER INFORMATION CONTACT: Ms. Shelly L. Greendyk, 571-372-1249.

SUPPLEMENTARY INFORMATION: This document notifies the public of revisions in per diem rates prescribed by the Per Diem, Travel and Transportation Allowance Committee for travel to non-foreign areas outside the continental United States. The FY 2021 lodging rate review for Guam, Northern Mariana Islands, and the U.S. Virgin Islands resulted in lodging rate changes in certain locations. Bulletin Number 316 is published in the Federal Register to ensure that Government travelers outside the Department of Defense are notified of revisions to the current reimbursement rates.

If you believe the lodging, meal or incidental allowance rate for a locality listed in the following table is insufficient, you may request a rate review for that location. For more information about how to request a review, please see the Defense Travel Management Office's Per Diem Rate Review Frequently Asked Questions (FAQ) page at https://www.defensetravel.dod.mil/site/faqraterev.cfm.

Dated: March 26, 2021.
Aaron T. Siegel,
Alternate OSD Federal Register Liaison Officer, Department of Defense.

State or territory | Locality | Season start | Season end | Lodging | M&IE | Total per diem | Effective date
ALASKA | [OTHER] | 01/01 | 12/31 | 175 | 113 | 288 | 10/01/2020
ALASKA | ADAK | 01/01 | 12/31 | 175 | 117 | 292 | 10/01/2020
ALASKA | ANCHORAGE [INCL NAV RES] | 01/01 | 12/31 | 229 | 125 | 354 | 10/01/2020
ALASKA | BARROW | 05/15 | 09/14 | 326 | 129 | 455 | 10/01/2020
ALASKA | BARROW | 09/15 | 05/14 | 252 | 129 | 381 | 10/01/2020
ALASKA | BARTER ISLAND LRRS | 01/01 | 12/31 | 175 | 113 | 288 | 10/01/2020
ALASKA | BETHEL | 01/01 | 12/31 | 219 | 101 | 320 | 10/01/2020
ALASKA | BETTLES | 01/01 | 12/31 | 175 | 113 | * 288 | 10/01/2020
ALASKA | CAPE LISBURNE LRRS | 01/01 | 12/31 | 175 | 113 | 288 | 10/01/2020
ALASKA | CAPE NEWENHAM LRRS | 01/01 | 12/31 | 175 | 113 | 288 | 10/01/2020
ALASKA | CAPE ROMANZOF LRRS | 01/01 | 12/31 | 175 | 113 | 288 | 10/01/2020
ALASKA | CLEAR AB | 01/01 | 12/31 | 175 | 113 | 288 | 10/01/2020
ALASKA | COLD BAY | 01/01 | 12/31 | 175 | 113 | 288 | 10/01/2020
ALASKA | COLD BAY LRRS | 01/01 | 12/31 | 175 | 113 | 288 | 10/01/2020
ALASKA | COLDFOOT | 01/01 | 12/31 | 219 | 93 | 312 | 10/01/2020
ALASKA | COPPER CENTER | 01/01 | 12/31 | 175 | 115 | 290 | 10/01/2020
ALASKA | CORDOVA | 03/01 | 10/31 | 175 | 106 | 281 | 10/01/2020
ALASKA | CORDOVA | 11/01 | 02/28 | 150 | 106 | 256 | 10/01/2020
ALASKA | CRAIG | 05/01 | 09/30 | 139 | 94 | 233 | 10/01/2020
ALASKA | CRAIG | 10/01 | 04/30 | 109 | 94 | 203 | 10/01/2020
ALASKA | DEADHORSE | 01/01 | 12/31 | 120 | 113 | * 233 | 10/01/2020
ALASKA | DELTA JUNCTION | 01/01 | 12/31 | 175 | 101 | 276 | 10/01/2020
ALASKA | DENALI NATIONAL PARK | 06/01 | 09/30 | 164 | 98 | 258 | 10/01/2020
ALASKA | DENALI NATIONAL PARK | 10/01 | 05/31 | 114 | 98 | 188 | 10/01/2020
ALASKA | DILLINGHAM | 07/01 | 08/31 | 320 | 113 | 433 | 10/01/2020
ALASKA | DILLINGHAM | 09/01 | 06/30 | 298 | 113 | 411 | 10/01/2020
ALASKA | DUTCH HARBOR-UNALASKA | 01/01 | 12/31 | 175 | 129 | 304 | 10/01/2020
ALASKA | EARECKSON AIR STATION | 01/01 | 12/31 | 146 | 74 | 220 | 10/01/2020
ALASKA | EIELSON AFB | 05/01 | 09/15 | 154 | 100 | 254 | 10/01/2020
ALASKA | EIELSON AFB | 09/16 | 04/30 | 79 | 100 | 179 | 10/01/2020
ALASKA | ELFIN COVE | 01/01 | 12/31 | 175 | 113 | 288 | 10/01/2020
ALASKA | ELMENDORF AFB | 01/01 | 12/31 | 229 | 125 | 354 | 10/01/2020
ALASKA | FAIRBANKS | 05/01 | 09/15 | 154 | 100 | 254 | 10/01/2020
ALASKA | FAIRBANKS | 09/16 | 04/30 | 79 | 100 | 179 | 10/01/2020
ALASKA | FORT YUKON LRRS | 01/01 | 12/31 | 175 | 113 | 288 | 10/01/2020
ALASKA | FT. GREELY | 01/01 | 12/31 | 175 | 101 | 276 | 10/01/2020
ALASKA | FT. RICHARDSON | 01/01 | 12/31 | 229 | 125 | 354 | 10/01/2020
ALASKA | FT. WAINWRIGHT | 05/01 | 09/15 | 154 | 100 | 254 | 10/01/2020
ALASKA | FT. WAINWRIGHT | 09/16 | 04/30 | 79 | 100 | 179 | 10/01/2020
ALASKA | GAMBELL | 01/01 | 12/31 | 175 | 113 | 288 | 10/01/2020
ALASKA | GLENNALLEN | 01/01 | 12/31 | 175 | 115 | 290 | 10/01/2020
ALASKA | HAINES | 01/01 | 12/31 | 149 | 113 | 262 | 10/01/2020
ALASKA | HEALY | 06/01 | 09/30 | 164 | 98 | 262 | 10/01/2020
ALASKA | HEALY | 10/01 | 05/31 | 114 | 98 | 212 | 10/01/2020
ALASKA | HOMER | 05/01 | 09/30 | 189 | 124 | 313 | 10/01/2020
ALASKA | HOMER | 10/01 | 04/30 | 104 | 124 | 228 | 10/01/2020
ALASKA | JB ELMENDORF-RICHARDSON | 01/01 | 12/31 | 229 | 125 | 354 | 10/01/2020
ALASKA | JUNEAU | 02/01 | 09/30 | 249 | 118 | 367 | 10/01/2020
ALASKA | JUNEAU | 10/01 | 01/31 | 175 | 118 | 293 | 10/01/2020
ALASKA | KAKTOVIK | 01/01 | 12/31 | 175 | 129 | * 304 | 10/01/2020
ALASKA | KAVIK CAMP | 01/01 | 12/31 | 175 | 113 | * 288 | 10/01/2020
ALASKA | KENAI-SOLDOTNA | 05/01 | 09/30 | 151 | 113 | 264 | 10/01/2020
ALASKA | KENAI-SOLDOTNA | 10/01 | 04/30 | 99 | 113 | 212 | 10/01/2020
ALASKA | KENNICOTT | 01/01 | 12/31 | 175 | 85 | 260 | 10/01/2020
ALASKA | KETCHIKAN | 04/01 | 09/30 | 250 | 118 | 368 | 10/01/2020
ALASKA | KETCHIKAN | 10/01 | 03/31 | 140 | 118 | 258 | 10/01/2020
ALASKA | KING SALMON | 01/01 | 12/31 | 175 | 89 | 264 | 10/01/2020
ALASKA | KING SALMON LRRS | 01/01 | 12/31 | 175 | 113 | 288 | 10/01/2020
ALASKA | KLAWOCK | 05/01 | 09/30 | 139 | 94 | 233 | 10/01/2020
ALASKA | KLAWOCK | 10/01 | 04/30 | 109 | 94 | 203 | 10/01/2020
ALASKA | KODIAK | 04/01 | 09/30 | 207 | 109 | 316 | 10/01/2020
ALASKA | KODIAK | 10/01 | 03/31 | 123 | 109 | 232 | 10/01/2020
ALASKA | KOTZEBUE | 01/01 | 12/31 | 175 | 121 | 296 | 10/01/2020
ALASKA | KULIS AGS | 01/01 | 12/31 | 229 | 125 | 354 | 10/01/2020
ALASKA | MCCARTHY | 01/01 | 12/31 | 175 | 85 | 260 | 10/01/2020
ALASKA | MCGRATH | 01/01 | 12/31 | 175 | 113 | * 288 | 10/01/2020
ALASKA | MURPHY DOME | 05/01 | 09/15 | 154 | 100 | 254 | 10/01/2020
ALASKA | MURPHY DOME | 09/16 | 04/30 | 79 | 100 | 179 | 10/01/2020
ALASKA | NOME | 01/01 | 12/31 | 200 | 118 | 318 | 10/01/2020
ALASKA | NOSC ANCHORAGE | 01/01 | 12/31 | 229 | 125 | 354 | 10/01/2020
ALASKA | NUIQSUT | 01/01 | 12/31 | 175 | 113 | * 288 | 10/01/2020
ALASKA | OLIKTOK LRRS | 01/01 | 12/31 | 175 | 113 | 288 | 10/01/2020
ALASKA | PALMER | 01/01 | 12/31 | 175 | 117 | 292 | 10/01/2020
ALASKA | PETERSBURG | 01/01 | 12/31 | 130 | 108 | 238 | 10/01/2020
ALASKA | POINT BARROW LRRS | 01/01 | 12/31 | 175 | 113 | 288 | 10/01/2020
ALASKA | POINT HOPE | 01/01 | 12/31 | 175 | 113 | * 288 | 10/01/2020
ALASKA | POINT LONELY LRRS | 01/01 | 12/31 | 175 | 113 | 288 | 10/01/2020
ALASKA | PORT ALEXANDER | 01/01 | 12/31 | 175 | 113 | * 288 | 10/01/2020
ALASKA | PORT ALSWORTH | 01/01 | 12/31 | 175 | 113 | 288 | 10/01/2020
ALASKA | PRUDHOE BAY | 01/01 | 12/31 | 120 | 113 | * 233 | 10/01/2020
ALASKA | SELDOVIA | 05/01 | 09/30 | 189 | 124 | 313 | 10/01/2020
ALASKA | SELDOVIA | 10/01 | 04/30 | 104 | 124 | 223 | 10/01/2020
ALASKA | SEWARD | 04/01 | 09/30 | 299 | 146 | 445 | 10/01/2020
ALASKA | SEWARD | 10/01 | 03/31 | 104 | 146 | 250 | 10/01/2020
ALASKA | SITKA-MT. EDGECUMBE | 04/01 | 09/30 | 220 | 116 | 336 | 10/01/2020
ALASKA | SITKA-MT. EDGECUMBE | 10/01 | 03/31 | 189 | 116 | 305 | 10/01/2020
ALASKA | SKAGWAY | 04/01 | 09/30 | 250 | 118 | 368 | 10/01/2020
ALASKA | SKAGWAY | 10/01 | 03/31 | 140 | 118 | 258 | 10/01/2020
ALASKA | SLANA | 01/01 | 12/31 | 175 | 113 | 288 | 10/01/2020
ALASKA | SPARREVOHN LRRS | 01/01 | 12/31 | 175 | 113 | 288 | 10/01/2020
ALASKA | SPRUCE CAPE | 04/01 | 09/30 | 207 | 109 | 316 | 10/01/2020
ALASKA | SPRUCE CAPE | 10/01 | 03/31 | 123 | 109 | 232 | 10/01/2020
ALASKA | ST. GEORGE | 01/01 | 12/31 | 175 | 113 | 288 | 10/01/2020
ALASKA | TALKEETNA | 01/01 | 12/31 | 175 | 120 | 295 | 10/01/2020
ALASKA | TANANA | 01/01 | 12/31 | 200 | 118 | 318 | 10/01/2020
ALASKA | TATALINA LRRS | 01/01 | 12/31 | 175 | 113 | 288 | 10/01/2020
ALASKA | TIN CITY LRRS | 01/01 | 12/31 | 175 | 113 | 288 | 10/01/2020
ALASKA | TOK | 01/01 | 12/31 | 105 | 113 | 218 | 10/01/2020
ALASKA | VALDEZ | 05/16 | 09/15 | 212 | 110 | 322 | 10/01/2020
ALASKA | VALDEZ | 09/16 | 05/15 | 154 | 110 | 264 | 10/01/2020
ALASKA | WAINWRIGHT | 01/01 | 12/31 | 275 | 77 | 352 | 10/01/2020
ALASKA | WAKE ISLAND DIVERT AIRFIELD | 01/01 | 12/31 | 175 | 113 | 288 | 10/01/2020
ALASKA | WASILLA | 05/01 | 09/30 | 190 | 94 | 284 | 10/01/2020
ALASKA | WASILLA | 10/01 | 04/30 | 100 | 94 | 194 | 10/01/2020
ALASKA | WRANGELL | 04/01 | 09/30 | 250 | 118 | 368 | 10/01/2020
ALASKA | WRANGELL | 10/01 | 03/31 | 140 | 118 | 258 | 10/01/2020
ALASKA | YAKUTAT | 06/01 | 09/30 | 350 | 111 | 461 | 10/01/2020
ALASKA | YAKUTAT | 10/01 | 05/31 | 150 | 111 | 261 | 10/01/2020
AMERICAN SAMOA | AMERICAN SAMOA | 01/01 | 12/31 | 139 | 86 | 225 | 07/01/2019
AMERICAN SAMOA | PAGO PAGO | 01/01 | 12/31 | 139 | 86 | 225 | 07/01/2019
GUAM | GUAM (INCL ALL MIL INSTAL) | 01/01 | 12/31 | 159 | 96 | 255 | 04/01/2021
GUAM | JOINT REGION MARIANAS (ANDERSEN) | 01/01 | 12/31 | 159 | 96 | 255 | 04/01/2021
GUAM | JOINT REGION MARIANAS (NAVAL BASE) | 01/01 | 12/31 | 159 | 96 | 255 | 04/01/2021
GUAM | TAMUNING | 01/01 | 12/31 | 159 | 96 | 255 | 04/01/2021
HAWAII | [OTHER] | 01/01 | 12/31 | 218 | 149 | 367 | 01/01/2021
HAWAII | CAMP H M SMITH | 01/01 | 12/31 | 177 | 149 | 326 | 01/01/2021
HAWAII | CNI NAVMAG PEARL HARBOR- HICKAM | 01/01 | 12/31 | 177 | 149 | 326 | 01/01/2021
HAWAII | FT. DERUSSEY | 01/01 | 12/31 | 177 | 149 | 326 | 01/01/2021
HAWAII | FT. SHAFTER | 01/01 | 12/31 | 177 | 149 | 326 | 01/01/2021
HAWAII | HICKAM AFB | 01/01 | 12/31 | 177 | 149 | 326 | 01/01/2021
HAWAII | HONOLULU | 01/01 | 12/31 | 177 | 149 | 326 | 01/01/2021
HAWAII | ISLE OF HAWAII: HILO | 01/01 | 12/31 | 199 | 120 | 319 | 01/01/2021
HAWAII | ISLE OF HAWAII: LOCATIONS OTHER THAN HILO | 01/01 | 12/31 | 218 | 156 | 374 | 01/01/2021
HAWAII | ISLE OF KAUAI | 01/01 | 12/31 | 325 | 141 | 466 | 01/01/2021
HAWAII | ISLE OF LANAI | 01/01 | 12/31 | 218 | 134 | 352 | 01/01/2021
HAWAII | ISLE OF MAUI | 01/01 | 12/31 | 304 | 150 | 454 | 01/01/2021
HAWAII | ISLE OF MOLOKAI | 01/01 | 12/31 | 218 | 106 | 324 | 01/01/2021
HAWAII | ISLE OF OAHU | 01/01 | 12/31 | 177 | 149 | 326 | 01/01/2021
HAWAII | JB PEARL HARBOR-HICKAM | 01/01 | 12/31 | 177 | 149 | 326 | 01/01/2021
HAWAII | KAPOLEI | 01/01 | 12/31 | 177 | 149 | 326 | 01/01/2021
HAWAII | KEKAHA PACIFIC MISSILE RANGE FAC | 01/01 | 12/31 | 325 | 141 | 466 | 01/01/2021
HAWAII | KILAUEA MILITARY CAMP | 01/01 | 12/31 | 199 | 120 | 319 | 01/01/2021
HAWAII | LIHUE | 01/01 | 12/31 | 325 | 141 | 466 | 01/01/2021
HAWAII | MCB HAWAII | 01/01 | 12/31 | 177 | 149 | 326 | 01/01/2021
HAWAII | NCTAMS PAC WAHIAWA | 01/01 | 12/31 | 177 | 149 | 326 | 01/01/2021
HAWAII | NOSC PEARL HARBOR | 01/01 | 12/31 | 177 | 149 | 326 | 01/01/2021
HAWAII | PEARL HARBOR | 01/01 | 12/31 | 177 | 149 | 326 | 01/01/2021
HAWAII | PMRF BARKING SANDS | 01/01 | 12/31 | 325 | 141 | 466 | 01/01/2021
HAWAII | SCHOFIELD BARRACKS | 01/01 | 12/31 | 177 | 149 | 326 | 01/01/2021
HAWAII | TRIPLER ARMY MEDICAL CENTER | 01/01 | 12/31 | 177 | 149 | 326 | 01/01/2021
HAWAII | WHEELER ARMY AIRFIELD | 01/01 | 12/31 | 177 | 149 | 326 | 01/01/2021
MIDWAY ISLANDS | MIDWAY ISLANDS | 01/01 | 12/31 | 125 | 81 | 206 | 01/01/2021
NORTHERN MARIANA ISLANDS | [OTHER] | 01/01 | 12/31 | 80 | 113 | 182 | 04/01/2021
NORTHERN MARIANA ISLANDS | ROTA | 01/01 | 12/31 | 130 | 114 | 244 | 04/01/2021
NORTHERN MARIANA ISLANDS | SAIPAN | 01/01 | 12/31 | 161 | 113 | 274 | 04/01/2021
NORTHERN MARIANA ISLANDS | TINIAN | 01/01 | 12/31 | 80 | 93 | 162 | 04/01/2021
PUERTO RICO | [OTHER] | 01/01 | 12/31 | 154 | 100 | 254 | 06/01/2020
PUERTO RICO | AGUADILLA | 01/01 | 12/31 | 149 | 90 | 239 | 06/01/2020
PUERTO RICO | BAYAMON | 12/01 | 05/31 | 195 | 115 | 310 | 06/01/2020
PUERTO RICO | BAYAMON | 06/01 | 11/30 | 167 | 115 | 282 | 06/01/2020
PUERTO RICO | CAROLINA | 12/01 | 05/31 | 195 | 115 | 310 | 06/01/2020
PUERTO RICO | CAROLINA | 06/01 | 11/30 | 167 | 115 | 282 | 06/01/2020
PUERTO RICO | CEIBA | 01/01 | 12/31 | 159 | 110 | 269 | 06/01/2020
PUERTO RICO | CULEBRA | 01/01 | 12/31 | 159 | 105 | 264 | 06/01/2020
PUERTO RICO | FAJARDO [INCL ROOSEVELT RDS NAVSTAT] | 01/01 | 12/31 | 159 | 110 | 269 | 06/01/2020
PUERTO RICO | FT. BUCHANAN [INCL GSA SVC CTR, GUAYNABO] | 12/01 | 05/31 | 195 | 115 | 310 | 06/01/2020
PUERTO RICO | FT. BUCHANAN [INCL GSA SVC CTR, GUAYNABO] | 06/01 | 11/30 | 167 | 115 | 282 | 06/01/2020
PUERTO RICO | HUMACAO | 01/01 | 12/31 | 159 | 110 | 269 | 06/01/2020
PUERTO RICO | LUIS MUNOZ MARIN IAP AGS | 12/01 | 05/31 | 195 | 115 | 310 | 06/01/2020
PUERTO RICO | LUIS MUNOZ MARIN IAP AGS | 06/01 | 11/30 | 167 | 115 | 282 | 06/01/2020
PUERTO RICO | LUQUILLO | 01/01 | 12/31 | 159 | 110 | 269 | 06/01/2020
PUERTO RICO | MAYAGUEZ | 01/01 | 12/31 | 109 | 94 | 203 | 06/01/2020
PUERTO RICO | PONCE | 01/01 | 12/31 | 149 | 130 | 279 | 06/01/2020
PUERTO RICO | RIO GRANDE | 01/01 | 12/31 | 154 | 85 | 239 | 06/01/2020
PUERTO RICO | SABANA SECA [INCL ALL MILITARY] | 12/01 | 05/31 | 195 | 115 | 310 | 06/01/2020
PUERTO RICO | SABANA SECA [INCL ALL MILITARY] | 06/01 | 11/30 | 167 | 115 | 282 | 06/01/2020
PUERTO RICO | SAN JUAN & NAV RES STA | 12/01 | 05/31 | 195 | 115 | 310 | 06/01/2020
PUERTO RICO | SAN JUAN & NAV RES STA | 06/01 | 11/30 | 167 | 115 | 282 | 06/01/2020
PUERTO RICO | VIEQUES | 01/01 | 12/31 | 159 | 94 | 253 | 06/01/2020
VIRGIN ISLANDS (U.S.) | ST. CROIX | 12/15 | 04/14 | 299 | 120 | 419 | 04/01/2021
VIRGIN ISLANDS (U.S.) | ST. CROIX | 04/15 | 12/14 | 247 | 120 | 367 | 04/01/2021
VIRGIN ISLANDS (U.S.) | ST. JOHN | 12/04 | 04/30 | 230 | 123 | 353 | 04/01/2021
VIRGIN ISLANDS (U.S.) | ST. JOHN | 05/01 | 12/03 | 170 | 123 | 293 | 04/01/2021
VIRGIN ISLANDS (U.S.) | ST. THOMAS | 04/15 | 12/15 | 249 | 118 | 367 | 04/01/2021
VIRGIN ISLANDS (U.S.) | ST. THOMAS | 12/16 | 04/14 | 339 | 118 | 457 | 04/01/2021
WAKE ISLAND | WAKE ISLAND | 01/01 | 12/31 | 129 | 70 | 199 | 01/01/2021
* Where meals are included in the lodging rate, a traveler is only allowed a meal rate on the first and last day of travel.

[FR Doc. 2021-06634 Filed 3-30-21; 8:45 am]

BILLING CODE 5001-06-P